DEPARTMENT OF THE TREASURY

United States Mint

Pricing Changes for 2015 United States Mint Products

AGENCY: United States Mint, Department of the Treasury

ACTION: Notice.

SUMMARY: The United States Mint is announcing pricing changes for 2015 products, as follows:

Product | 2015 Retail price
American Eagle One Ounce Silver Proof Coin | $48.95
American Eagle One Ounce Silver Uncirculated Coin | 39.95
Congratulations Set | 50.95
United States Mint Proof Set® | 32.95
United States Mint Uncirculated Set® | 28.95
America the Beautiful Quarters Circulating Coin Set™ | 7.95
Annual Uncirculated Dollar Coin Set | 46.95
America the Beautiful Five-Ounce Silver Uncirculated Coin™ (5 issues) | 149.95

FOR FURTHER INFORMATION CONTACT: Mary Lhotsky, Acting Associate Director for Sales and Marketing; United States Mint; 801 9th Street NW, Washington, DC 20220; or call 202-354-7500.

Authority: 31 U.S.C. 5111, 5112, 5132 & 9701.

Dated: January 20, 2015.
Richard A. Peterson,
Deputy Director for Manufacturing and Quality, United States Mint.

[FR Doc. 2015-01529 Filed 1-27-15; 8:45 am]

BILLING CODE 4810-37-P